DEPARTMENT OF THE TREASURY

Internal Revenue Service

26 CFR Part 1

[REG-128841-07]

RIN 1545-BG91

Public Approval Guidance for Tax-Exempt Bonds; Correction

AGENCY: Internal Revenue Service (IRS), Treasury.

ACTION: Correction to notice of proposed rulemaking.

SUMMARY: This document contains a correction to a notice of proposed rulemaking (REG-128841-07) that was published in the Federal Register on Tuesday, September 9, 2008 (73 FR 52220) relating to the public approval requirements under section 147(f) of the Internal Revenue Code applicable to tax-exempt private activity bonds issued by State and local governments. The proposed regulations affect State and local governmental issuers of tax-exempt private activity bonds.

FOR FURTHER INFORMATION CONTACT: David White, (202) 622-3980 (not a toll-free number).

SUPPLEMENTARY INFORMATION:

Background

The correction notice that is the subject of this document is under section 147 of the Internal Revenue Code.

Need for Correction

As published, the notice of proposed rulemaking (REG-128841-07) contains an error that may prove to be misleading and is in need of clarification.

Correction of Publication

Accordingly, the publication of the notice of proposed rulemaking (REG-128841-07), which was the subject of FR Doc. E8-20771, is corrected as follows:

§ 1.147(f)-1 [Corrected]

On page 52225, column 1, § 1.147(f)-1(b)(6)(ii)(A), line 4, the language “and public approval stated would to be” is corrected to read “and public approval stated would be”.

LaNita Van Dyke,
Chief, Publications and Regulations Branch, Legal Processing Division, Associate Chief Counsel, (Procedure and Administration).

[FR Doc. E8-23651 Filed 10-6-08; 8:45 am]

BILLING CODE 4830-01-P